DEPARTMENT OF JUSTICE

Notice of Lodging of Proposed Consent Decree Under the Clean Water Act

On August 26, 2015, the Department of Justice lodged a proposed consent decree with the United States District Court for the District of Maine in the lawsuit entitled United States of America and State of Maine v. City of Bangor, Maine, Civil Action No. 1:15-cv-00350-NT.

In the Complaint, the United States, on behalf of the U.S. Environmental Protection Agency, and the State of Maine, on behalf of the Maine Department of Environmental Protection, allege that the City of Bangor (the “City”) violated the Clean Water Act (“CWA”), 33 U.S.C. 1251, et seq., and applicable regulations relating to the City's failure to comply with its National Pollution Discharge System and small municipal separate storm sewer system permits relating to the sewer system owned and operated by the City. The consent decree requires the City to undertake various measures to study and correct the problems causing the permit violations in order to achieve compliance with the CWA and applicable regulations.

The publication of this notice opens a period for public comment on the consent decree. Comments should be addressed to the Assistant Attorney General, Environment and Natural Resources Division, and should refer to United States of America and State of Maine v. City of Bangor, Maine, D.J. Ref. No. 90-5-1-1-2883/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.justice.gov/enrd/consent-decrees. We will provide a paper copy of the consent decree upon written request and payment of reproduction costs. Mail your request and to: Consent Decree Library, U.S. DOJ—ENRD, P.O. Box 7611, Washington, DC 20044-7611.

Please enclose a check or money order for $16.25 (25 cents per page reproduction cost) payable to the United States Treasury.

Robert E. Maher, Jr.,
Assistant Section Chief, Environmental Enforcement Section, Environment & Natural Resources Division.

[FR Doc. 2015-21546 Filed 8-31-15; 8:45 am]

BILLING CODE 4410-15-P